DEPARTMENT OF THE INTERIOR

National Park Service

36 CFR Part 7

[Docket ID: NPS-2018-0001; NPS-GLCA-27587; PPIMGLCAS1; PPMPSAS1Z.YP0000]

RIN 1024-AD93

Glen Canyon National Recreation Area; Motor Vehicles

Correction

In rule document 2020-28464, appearing on pages 3804-3815 in the issue of the January 15, 2021, make the following corrections:

1. On page 3804, in the first column, DATES should read:

“DATES: This rule is effective on February 16, 2021.”

§ 7.70 [Corrected]

2. On page 3813, in the second column, paragraph (f)(2)(i) should read:

“(i) The provisions in this paragraph (f)(2) are effective beginning on May 17, 2021.”

§ 7.70 [Corrected]

3. On same page, in the third column, paragraph (f)(3)(ii) introductory text should read:

“(ii) Motor vehicles may be used off GMP roads at the locations and subject to the management prescriptions in the table below, except for vehicle-free zones where off-road vehicle use is prohibited. Permit requirements in Table 1 to paragraph (f)(3)(ii) are effective beginning on May 17, 2021.”

[FR Doc. C1-2020-28464 Filed 2-11-21; 8:45 am]

BILLING CODE 1301-00-D